DEPARTMENT OF ENERGY

Federal Energy Regulatory Commission

[Project No., 14238-000]

NortHydro, LLC; Notice of Preliminary Permit Application Accepted for Filing and Soliciting Comments, Motions To Intervene, and Competing Applications

On July 29, 2011, NortHydro, LLC (NortHydro or applicant) filed an application for a preliminary permit, pursuant to section 4(f) of the Federal Power Act (FPA), proposing to study the feasibility of the Scooteney Wasteway Hydroelectric project (project) near Richland in Franklin County, Washington. The wasteway was constructed by the U.S. Bureau of Reclamation as part of the Columbia Basin Project, and is situated within and operated by the South Columbia Basin Irrigation District. The wasteway functions as a diversion of surplus water from the irrigation system to the existing Scooteney reservoir. The sole purpose of a preliminary permit, if issued, is to grant the permit holder priority to file a license application during the permit term. A preliminary permit does not authorize the permit holder to perform any land-disturbing activities or otherwise enter upon lands or waters owned by others without the owners' express permission.

The project would collect all surplus flows below the Scooteney wasteway outlet structure. The following new facilities are proposed: (1) A 63-inch, 2,850-foot-long underground penstock that would collect water from the Scooteney wasteway; (2) a powerhouse containing one turbine/generator unit with a capacity of 1,110 kilowatts; (3) a 4.2-mile-long, 115-kilovolt transmission line connecting to the existing Ringold substation; and (4) appurtenant facilities. The estimated annual generation of the project would be 4.8 gigawatt-hours.

Applicant Contact: Mr. Darius Ruen, P.E., NortHydro, LLC, 3201 Huetter Road, Suite 102, Coeur d'Alene, Idaho 83814; phone (208) 292-0820.

FERC Contact: Patrick Murphy; phone (202) 502-8755.

Deadline for Filing Comments, Motions to Intervene, Competing Applications (Without Notices of Intent), or Notices of Intent to File Competing Applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14238-000) in the docket number field to access the document. For assistance, contact FERC Online Support.

Dated: September 29, 2011.
Kimberly D. Bose,
Secretary.

[FR Doc. 2011-25838 Filed 10-5-11; 8:45 am]

BILLING CODE 6717-01-P